COMMISSION ON CIVIL RIGHTS

Sunshine Act Meeting Notice

AGENCY: United States Commission on Civil Rights.

ACTION: Notice of Commission Business Meeting.

DATES: Date and Time: Friday, July 17, 2015; 10:00 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Update on OCRE Staffing requirements to complete outstanding reports

• Discussion on the topic for Statutory Enforcement Report for FY 2016

• Discussion on number of briefing topics and reports for FY 2016 projects

• Discussion and vote on Part A of Peaceful Coexistence report

• Discussion on proposals for forwarding the NY State Advisory Committee report on juvenile solitary confinement

III. Management and Operations

• Staff Director Report

IV. State Advisory Committee (SAC) Appointments

• Oregon

• South Carolina

• Wisconsin

V. Adjourn Meeting

Dated: July 8, 2015.
David Mussatt,
Chief of Regional Programs Unit, U.S. Commission on Civil Rights.

[FR Doc. 2015-17188 Filed 7-9-15; 11:15 am]

BILLING CODE 6335-01-P